DEPARTMENT OF AGRICULTURE

Commodity Credit Corporation

Public Hearing on New Entrant's 2008—Crop Cane Sugar Marketing Allocation

AGENCY: Commodity Credit Corporation, USDA.

ACTION: Notice of invitation to request a public hearing.

SUMMARY: The Commodity Credit Corporation (CCC) issues this notice to advise sugarcane processors and growers that they may request a public hearing as a result of an application made by a new sugarcane processor, Andino Energy Enterprises, L.L.C., for a cane sugar allocation starting with the 2008 crop year. Andino Energy Enterprises, L.L.C., is requesting a 2008-crop year allocation of 50,000 short tons, raw value (STRV), with annual increases in its allocation to 60,000, 80,000, 100,000 and 120,000 STRV, for crop years 2009, 2010, 2011 and 2012, respectively. The new processor will be located in Louisiana, an existing mainland State in the CCC sugar marketing allotment program. If CCC receives a request for a hearing, CCC will conduct a hearing.

DATES: Send requests for hearings by June 3, 2008.

ADDRESSES: Please send hearing requests to Barbara Fecso, Farm Service Agency, United States Department of Agriculture (USDA), Stop 0516, 1400 Independence Ave, SW., Washington, DC 20250-0540, fax: (202) 690-1480, e-mail: barbara.fecso@wdc.usda.gov.

FOR FURTHER INFORMATION CONTACT: Barbara Fecso Farm Service Agency, telephone: (202) 720-4146, fax: (202) 690-1480, e-mail: barbara.fecso@wdc.usda.gov. To view original application, go to http://www.fsa.usda.gov/FSA/webapp?area=home&subject=ecpa&topic=dsa. Persons with disabilities who require alternative means for communication (Braille, large print, audiotape, etc.) should contact the USDA Target Center at (202) 720-2600 (voice and TDD).

SUPPLEMENTARY INFORMATION: Section 359d(b)(1)(E) of the Agricultural Adjustment Act of 1938, as amended, authorizes CCC to provide a sugarcane processor, who begins processing after May 13, 2002, with an allocation that provides a fair, efficient, and equitable distribution of the allocations from the allotment for the State in which the processor is located. CCC is also required to establish proportionate shares in a quantity sufficient to produce the sugarcane required to satisfy the new allocation. If an allocation is provided by CCC to the new applicant, that processor's allocation will be subtracted, on a pro rata basis, from the allocations otherwise provided to each sugarcane processor in Louisiana.

CCC will publicly announce the hearing if one is requested.

Signed in Washington, DC on May 13, 2008.
Teresa C. Lasseter,
Executive Vice President, Commodity Credit Corporation.

[FR Doc. E8-11213 Filed 5-19-08; 8:45 am]

BILLING CODE 3410-05-P